DEPARTMENT OF TRANSPORTATION

Federal Aviation Administration

Approval of Noise Compatibility Program; Seattle-Tacoma International Airport, Seattle, Washington

AGENCY: Federal Aviation Administration, DOT.

ACTION: Notice.

SUMMARY: The Federal Aviation Administration (FAA) announced its findings on the noise compatibility program submitted by the Seattle-Tacoma International Airport under the provisions of 49 U.S.C. (the Aviation Safety and Noise Abatement Act, hereinafter referred to as “the Act”) and 14 CFR Part 150 on May 29, 2014. These findings were made in recognition of the description of Federal and nonfederal responsibilities in Senate Report No. 96-52 (1980). On December 13, 2013, the FAA determined that the noise exposure maps submitted by the Seattle-Tacoma International Airport under Part 150 were in compliance with applicable requirements. On May 29, 2014, the FAA approved the Seattle-Tacoma International Airport Noise Compatibility Program in a Record of Approval (ROA), which was published in the Federal Register on June 12, 2014.

Subsequent to the Federal Register publication, FAA recognized that a measure was inadvertently omitted from the ROA. This measure has been added via an errata sheet. Measure M-14—Sound insulate eligible owner-occupied multi-family (condominiums) within the modified noise remedy boundary was included in the Noise Compatibility Program and vetted with the public through the Part 150 process. As stated in the errata sheet, FAA has approved this measure.

DATES: Effective Date: The effective date of the FAA's approval is May 29, 2014.

FOR FURTHER INFORMATION CONTACT: Cayla Morgan, Federal Aviation Administration, Seattle Airports District Office, 1601 Lind Ave. SW., Renton, WA, 98057-3356, telephone 425-227-2653. Documents reflecting this FAA action may be reviewed at this same location.

SUPPLEMENTARY INFORMATION: This notice announces that the FAA has given its overall approval to the Noise Compatibility Program including Measure M-14 for Seattle-Tacoma International Airport, effective May 29, 2014. Additional information can be found in the June 12, 2014 Federal Register Notice.

The Record of Approval and the errata sheet will be available on-line at http://www.faa.gov/airports/environmental/airport_noise/part_150/states/.

Issued in Renton, Washington on July 24, 2014.
Sarah P. Dalton,
Manager, Airports Division, Northwest Mountain Region.

[FR Doc. 2014-19197 Filed 8-13-14; 8:45 am]

BILLING CODE 4910-13-P